NATIONAL FOUNDATION OF THE ARTS AND HUMANITIES

National Endowment for the Arts

Membership of the National Endowment for the Arts Senior Executive Service Performance Review Board

SUMMARY: This notice announces the membership of the National Endowment for the Arts (NEA) Senior Executive Service (SES) Performance Review Board (PRB).

DATES: Applicable Date: November 15, 2018.

ADDRESSES: Send comments concerning this notice to: National Endowment for the Arts, 400 7th Street SW, Washington, DC 20506.

FOR FURTHER INFORMATION CONTACT: Craig McCord Sr. by telephone at (202) 682-5473 or by email at mccordc@arts.gov.

SUPPLEMENTARY INFORMATION: 4314 (c)(1) through (5) of Title 5, U.S.C., requires each agency to establish, in accordance with regulations prescribed by the Office of Personnel Management, one or more SES Performance Review Boards. The Board shall review and evaluate the initial appraisal of a senior executive's performance by the supervisor, along with any response by the senior executive, and make recommendations to the appointing authority relative to the performance of the senior executive.

The following persons have been selected to serve on the Performance Review Board of the National Endowment for the Arts (NEA):

Michael Griffin—Chief of Staff, NEA

Ann Eilers—Deputy Chairman for Management & Budget, NEA

Sunil Iyengar—Director, Research & Analysis, NEA

Jeanette Duncan—Chief Information Officer, NEA

Tony Chauveaux—Deputy Chairman for Programs & Partnerships, NEA

Adam Wolfson—Assistant Chairman for Programs, NEH

Nancy Weiss—General Counsel, IMLS

Dated: November 26, 2018.
Gregory Gendron,
Director of Administrative Services, National Endowment for the Arts.

[FR Doc. 2018-25967 Filed 11-28-18; 8:45 am]

BILLING CODE P